DEPARTMENT OF STATE

[Public Notice: 10422]

U.S. Department of State Advisory Committee on Private International Law (ACPIL): Public Meeting on Micro, Small and Medium-Sized Enterprises (MSMEs) in Advance of the United Nations Commission on International Trade Law (UNCITRAL) Commission Session for 2018

The Office of the Assistant Legal Adviser for Private International Law, Department of State, hereby gives notice the Advisory Committee on Private International Law (ACPIL) will hold a public meeting via teleconference to discuss several matters relating to MSMEs. This is not a meeting of the full Advisory Committee.

The UNCITRAL Commission Session, which will be held June 25 through July 13, will, among other things, finalize and adopt a Legislative Guide on Key Principles of a Business Registry (A/CN.9/940) and an instrument on Reducing the Legal Obstacles Faced by MSMEs (A/CN.9/941). Additionally, the Commission will consider a proposal by the Government of Italy on possible future work by UNCITRAL on alternative forms of organization to corporate like models (contractual networks) (A/CN.9/954). The Commission documents will be available at http://www.uncitral.org/uncitral/commission/sessions/50th.html.

Time and Place: The ACPIL public meeting will take place on Tuesday, June 12, 2018, from 10 a.m. to 12:00 p.m. EDT via teleconference.

Public Participation: Those planning to participate should email pil@state.gov to obtain the call-in number.

Michael J. Dennis,
Attorney-Adviser, Office of Private International Law, Office of the Legal Adviser, U.S. Department of State.

[FR Doc. 2018-11173 Filed 5-23-18; 8:45 am]

BILLING CODE 4710-08-P